DEPARTMENT OF TRANSPORTATION

Federal Aviation Administration

14 CFR Part 39

[Docket No. FAA-2021-0688; Project Identifier 2019-SW-025-AD; Amendment 39-21781; AD 2021-22-08]

RIN 2120-AA64

Airworthiness Directives; Hélicoptères Guimbal Helicopters

AGENCY: Federal Aviation Administration (FAA), DOT.

ACTION: Final rule.

SUMMARY: The FAA is adopting a new airworthiness directive (AD) for Hélicoptères Guimbal (HG) Model Cabri G2 helicopters. This AD was prompted by the determination that certain parts need life limits and certification maintenance requirement (CMR) tasks. This AD requires establishing life limits and CMR tasks for various parts and removing any parts from service that have reached or exceeded their life limits. Depending on the results of the CMR tasks, this AD requires corrective action. The FAA is issuing this AD to address the unsafe condition on these products.

DATES: This AD is effective January 13, 2022.

The Director of the Federal Register approved the incorporation by reference of certain documents listed in this AD as of January 13, 2022.

ADDRESSES: For service information identified in this final rule, contact Hélicoptères Guimbal, 1070, rue du Lieutenant Parayre, Aérodrome d'Aix-en-Provence, 13290 Les Milles, France; telephone 33-04-42-39-10-88; email support@guimbal.com; or at https://www.guimbal.com. You may view the referenced service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2021-0688.

Examining the AD Docket

You may examine the AD docket at https://www.regulations.gov by searching for and locating Docket No. FAA-2021-0688; or in person at Docket Operations between 9 a.m. and 5 p.m., Monday through Friday, except Federal holidays. The AD docket contains this final rule, the European Aviation Safety Agency (now European Union Aviation Safety Agency) (EASA) AD, any comments received, and other information. The street address for Docket Operations is U.S. Department of Transportation, Docket Operations, M-30, West Building Ground Floor, Room W12-140, 1200 New Jersey Avenue SE, Washington, DC 20590.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Background

The FAA issued a notice of proposed rulemaking (NPRM) to amend 14 CFR part 39 by adding an AD that would apply to Hélicoptères Guimbal (HG) Model Cabri G2 helicopters. The NPRM published in the Federal Register on August 23, 2021 (86 FR 47038). In the NPRM, the FAA proposed to require before further flight, removing from service certain part-numbered cooling fan front flanges and engine pulley ball bearings that have accumulated or exceeded their life limit. The NPRM also proposed to require establishing recurring CMR tasks for certain part-numbered cooling fan front flanges. Depending on the results of the CMR tasks, the NPRM proposed to require corrective action. Additionally, the NPRM proposed to require painting certain part-numbered tail booms with glossy white paint.

The NPRM was prompted by a series of EASA ADs beginning with EASA AD 2016-0032, dated February 24, 2016 (EASA AD 2016-0032), issued by EASA, which is the Technical Agent for the Member States of the European Union, to correct an unsafe condition for HG Model Cabri G2 helicopters. EASA AD 2016-0032 states HG has revised the airworthiness limitations and maintenance tasks specified in the existing maintenance manual. EASA further advised the revisions include new and more restrictive applicable life limits and compliance times for applicable tasks. Accordingly, EASA 2016-0032 required replacing each affected part before exceeding its life limit, accomplishing all applicable maintenance tasks within the defined intervals as described in revised maintenance manual and if discrepancies were found accomplishing the corrective actions in accordance with the applicable maintenance instructions or contacting HG. EASA AD 2016-0032 also required revising the existing Aircraft Maintenance Program (AMP) for your helicopter by incorporating the actions specified in the revised maintenance. After EASA issued EASA AD 2016-0032, HG again revised the airworthiness limitations and maintenance tasks.

Accordingly, EASA superseded EASA AD 2016-0032 with EASA AD 2019-0025, dated February 4, 2019 (EASA AD 2019-0025). EASA advises new and more restrictive life limits have been established for cooling fan part number (P/N) G52-00-001, and P/N G52-00-002, which have been identified as mandatory for continued airworthiness in Hélicoptères Guimbal Cabri G2 Maintenance Manual (MM) No. J70-002 Issue 06, dated December 6, 2018, Section C, Airworthiness Limitations (the ALS). In addition to the new life limits, EASA advises of new and more restrictive inspection intervals identified in the ALS for cooling fan P/N G52-00-001 with a certain mounted cooling fan front flange P/N G52-02-200, or P/N G52-02-201. EASA further advises that the ALS revised the tail structure paint to include certain part-numbered tail booms and an additional figure. This condition, if not addressed, could result in parts remaining in service beyond their fatigue life and failure of a part, which could result in loss of control of the helicopter.

Accordingly, EASA AD 2019-0025 retains the requirements of EASA AD 2016-0032 and requires replacing each affected part before exceeding its life limit, accomplishing all applicable maintenance tasks within the defined intervals as described in the ALS, and if discrepancies are found accomplishing the corrective actions in accordance with the applicable maintenance instructions or contacting HG. EASA AD 2019-0025 also requires revising the tail structure paint scheme to include certain part-numbered tail booms and an additional figure. EASA AD 2019-0025 requires revising the existing AMP for your helicopter by incorporating the actions specified in the ALS.

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM. Changes include clarifying the name of and the specific portions of Guimbal France Hélicoptères Guimbal Cabri G2 Maintenance Manual and Instructions for Continued Airworthiness, J70-002—Issue 06, dated December 6, 2018 (MM J70-002 Issue 06) that are required to accomplish this final rule. MM J70-002 Issue 06 also refers to a flashlight as a torchlight; accordingly, changes have been made in this final rule to clarify that where MM J70-002 Issue 06 specifies to use a torchlight, to use a flashlight instead. This final rule also removes the requirements of accomplishing sub section 52-A-10 Cooling Fan Inspection, paragraph d), of MM J70-002 Issue 06 because it is unnecessary, this final rule already provides requirements pertaining to what to do if there is a crack.

Related Service Information Under 1 CFR Part 51

The FAA reviewed page C-6 of Section C, Airworthiness Limitations, and page E-5-53 of Section E, Maintenance Instructions, of MM J70-002 Issue 06. This service information specifies airworthiness life limits, inspection intervals, and CMR requirements for parts installed on Cabri G2 helicopters. MM J70-002 Issue 06 also establishes life limits for certain part-numbered cooling fan front flanges, and engine pulley ball bearings and CMR requirements for certain cooling fan front flanges.

This service information is reasonably available because the interested parties have access to it through their normal course of business or by the means identified in the ADDRESSES section.

Differences Between This AD and EASA 2019-0025

EASA AD 2019-0025 requires contacting Hélicoptères Guimbal for corrective actions when a discrepancy is found, whereas this AD requires removing the part from service. EASA AD 2019-0025 requires accomplishing the actions specified in the ALS, whereas this AD requires establishing a life limit for certain part-numbered cooling fan front flanges and certain part-numbered engine pulley ball bearings and removing any part from service accordingly instead. EASA AD 2019-0025 requires revising the AMP with the actions specified in the ALS, whereas this AD does not.

Costs of Compliance

The FAA estimates that this AD affects 32 helicopters of U.S. Registry. Labor rates are estimated at $85 per work-hour. Based on these numbers, the FAA estimates the following costs to comply with this AD.

Replacing a cooling fan front flange takes about 16 work-hours and parts cost about $4,500 for an estimated cost of $5,860 per helicopter and $187,520 for the U.S. fleet, per replacement cycle.

Replacing an engine pulley ball bearing takes about 12 work-hours and parts cost about $250 for an estimated cost of $1,270 per helicopter and $40,640 for the U.S. fleet, per replacement cycle.

The FAA has no way of determining the estimated costs to do allowable repairs based on the results of the CMR tasks. If required, replacing a cracked cooling fan front flange takes about 16 work-hours and parts cost about $4,500 for an estimated cost of $5,860.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-08 Hélicoptères Guimbal: Amendment 39-21781; Docket No. FAA-2021-0688; Project Identifier 2019-SW-025-AD.

(a) Effective Date

This airworthiness directive (AD) is effective January 13, 2022.

(b) Affected ADs

None.

(c) Applicability

This AD applies to Hélicoptères Guimbal (HG) Model Cabri G2 helicopters, certificated in any category.

(d) Subject

Joint Aircraft Service Component (JASC) Code: 7100, Powerplant System.

(e) Unsafe Condition

This AD was prompted by a notification of certain parts remaining in service beyond their fatigue life or beyond maintenance intervals required by the certification maintenance requirements (CMRs) of the Instructions for Continued Airworthiness. The FAA is issuing this AD to prevent failure of a part, which could result in loss of control of the helicopter.

(f) Compliance

Comply with this AD within the compliance times specified, unless already done.

(g) Required Actions

(1) Before further flight after the effective date of this AD, remove from service any part that has reached or exceeded its life limit, as specified in paragraphs (g)(1)(i) through (iii) of this AD, and thereafter remove from service any part on or before each part reaches its life limit:

(i) The life limit for cooling fan front flange part number (P/N) G52-02-200 mounted on pulley (12 screws) P/N G52-10-100 or G52-10-101; and cooling fan front flange P/N G52-02-201 mounted or having been mounted on pulley (12 screws) P/N G52-10-100 or G52-10-101, installed on cooling fan P/N G52-00-001 or G52-00-002; is 2,200 total hours time-in-service (TIS).

(ii) The life limit for cooling fan front flange P/N G52-02-201 mounted on pulley (24 screws) P/N G52-10-102 and having never been mounted on pulley (12 screws) P/N G52-10-100 or G52-10-101, installed on cooling fan P/N G52-00-001 or G52-00-002, is 4,400 total hours TIS.

(iii) The life limit for engine pulley ball bearing P/N HG61-0790 and HG61-1944, installed on engine pulley assembly P/N G51-14-1XX, is 2,200 total hours TIS.

(2) Perform the following CMR tasks as follows:

(i) Cooling fan front flange P/N G52-02-200 mounted on pulley (12 screws) P/N G52-10-100 or G52-10-101; and cooling fan front flange P/N G52-02-201 mounted or having been mounted on pulley (12 screws) P/N G52-10-100 or G52-10-101, installed on cooling fan P/N G52-00-001, and with 500 or more total hours TIS since new as of the effective date of this AD: Within 5 hours TIS after the effective date of this AD and thereafter at intervals not to exceed 50 hours TIS, or 70 engine start-stop cycles, whichever occurs first, inspect the cooling fan front flange for a crack in accordance with Section E, Maintenance Instructions, sub section 52-A-10 Cooling Fan Inspection, paragraph c), on page E-5-53, of Guimbal France Hélicoptères Guimbal Cabri G2 Maintenance Manual (MM) and Instructions for Continued Airworthiness, J70-002—Issue 06, dated December 6, 2018 (MM J70-002 Issue 06), except where MM J70-002 Issue 06 specifies to use a torchlight, use a flashlight. If any crack is found, before further flight, remove the cooling fan front flange from service.

(ii) Cooling fan front flange P/N G52-02-200 mounted on pulley (12 screws) P/N G52-10-100 or G52-10-101; and cooling fan front flange P/N G52-02-201 mounted or having been mounted on pulley (12 screws) P/N G52-10-100 or G52-10-101, installed on cooling fan P/N G52-00-001, and with less than 500 total hours TIS since new as of the effective date of this AD: Before accumulating 500 total hours TIS since new and thereafter at intervals not to exceed 50 hours TIS, or 70 engine start-stop cycles, whichever occurs first, inspect the cooling fan front flange for a crack in accordance with Section E, Maintenance Instructions, sub section 52-A-10 Cooling Fan Inspection, paragraph c), on page E-5-53, of MM J70-002 Issue 06, except where MM J70-002 Issue 06 specifies to use a torchlight, use a flashlight. If any crack is found, before further flight, remove the cooling fan front flange from service.

(iii) Cooling fan front flange P/N G52-02-201 mounted on pulley (24 screws) P/N G52-10-102 and having never been mounted on pulley (12 screws) P/N G52-10-100 or G52-10-101, installed on cooling fan P/N G52-00-002: Before accumulating 500 total hours TIS since new and thereafter at intervals not to exceed 100 hours TIS, inspect the cooling fan front flange for a crack in accordance with Section E, Maintenance Instructions, sub section 52-A-10 Cooling Fan Inspection, paragraph c), on page E-5-53, of MM J70-002 Issue 06, except where MM J70-002 Issue 06 specifies to use a torchlight, use a flashlight. If any crack is found, before further flight, remove the cooling fan front flange from service.

(iv) For helicopters with tail boom P/N G65-00-101, G65-00-102 or G65-00-103 and subsequent installed: Before further flight after the effective date of this AD, paint or verify the tail boom upper surface in accordance with Section C, Airworthiness Limitations, sub section C-23 Tail Structure Paint, on page C-6, of MM J70-002 Issue 06, as applicable to your helicopter.

(h) Credit for Previous Actions

This paragraph provides credit for the actions specified in paragraphs (g)(2)(i) through (iii) of this AD, if those actions were performed before the effective date of this AD using Section E, Maintenance Instructions, sub section 52-A-10 Cooling Fan Inspection, paragraphs (c) and (d), of Guimbal France Hélicoptères Guimbal Cabri G2 MM and Instructions for Continued Airworthiness, J70-002 Issue—05.1, dated October 30, 2015.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(2) Service information identified in this AD that is not incorporated by reference is available at the contact information specified in paragraphs (k)(3) and (4) of this AD.

(3) The subject of this AD is addressed in European Aviation Safety Agency (now European Union Aviation Safety Agency (EASA) AD 2019-0025, dated February 4, 2019. You may view the EASA AD on the internet at https://www.regulations.gov in Docket No. FAA-2021-0688.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Page C-6 of Section C, Airworthiness Limitations, of Guimbal France Hélicoptères Guimbal Cabri G2 Maintenance Manual and Instructions for Continued Airworthiness, J70-002—Issue 06, dated December 6, 2018.

(ii) Page E-5-53 of Section E, Maintenance Instructions, of Guimbal France Hélicoptères Guimbal Cabri G2 Maintenance Manual and Instructions for Continued Airworthiness, J70-002—Issue 06, dated December 6, 2018.

(3) For service information identified in this AD, contact Hélicoptères Guimbal, 1070, rue du Lieutenant Parayre, Aérodrome d'Aix-en-Provence, 13290 Les Milles, France; telephone 33-04-42-39-10-88; email support@guimbal.com; or at https://www.guimbal.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on October 14, 2021.
Lance T. Gant,
Director, Compliance & Airworthiness Division, Aircraft Certification Service.

[FR Doc. 2021-26543 Filed 12-8-21; 8:45 am]

BILLING CODE 4910-13-P